DEPARTMENT OF ENERGY

Federal Energy Regulatory Commission

[Project No. 13351-000]

Notice Modifying Restricted Service List for a Programmatic Agreement for Managing Properties Included in or Eligible for Inclusion in the National Register of Historic Places; Marseilles Land and Water Company

September 3, 2010.

On June 22, 2010, the Commission issued a Notice of Proposed Restricted Service List for a Programmatic Agreement for Managing Properties Included in or Eligible for Inclusion in the National Register of Historic Places for the proposed Marseilles Lock and Dam Project No. 13351, located on the Illinois River in the town of Marseilles in La Salle County, Illinois. On July 7, 2010, the City of Marseilles filed a motion on behalf of itself and Marseilles Hydro Power, its development agent, requesting that the Commission include them on the restricted service list. On July 22, 2010, Marseilles Land and Water Company, the license applicant, filed an answer in opposition to the City's motion.

Rule 2010 of the Commission's Rules of Practice and Procedure provides that a restricted service list should contain the names of each person on the service list who, in the judgment of the decisional authority establishing the list, is an active participant with respect to the phase or issue in the proceeding for which the list is established.¹ The City states that it has an interest in the treatment of historic properties within its boundaries, and that Marseilles Hydro owns lands on which the proposed project would be constructed, as well as historic properties adjacent to the site. Accordingly, these entities are active participants with respect to historic preservation issues and will be added to the restricted service list.²

¹ 18 CFR 385.2010(d)(2) (2010).

² As set forth in the City's motion to intervene (filed February 25, 2009) and service list correction (filed February 27, 2009), the City's designated representatives for service in these proceedings are William H. Pickrell, North American Hydro Holdings, Inc., and Donald H. Clarke, Law Offices of GKRSE (counsel for Marseilles Hydro Power LLC and development agent for the City of Marseilles).

The following is an addition to the restricted service list established in the notice issued on June 22, 2010:

William H. Pickrell, North American Hydro Holdings, Inc., 116 State Street, 695 Garland Ave., Winnetka, IL 60093.

Donald H. Clarke, Law Offices of GKRSE, 1500 K Street, NW., Suite 330, Washington, DC 20005.

Kimberly D. Bose,
Secretary.

[FR Doc. 2010-22937 Filed 9-14-10; 8:45 am]

BILLING CODE 6717-01-P